DEPARTMENT OF LABOR

Employment and Training Administration

[TA-W-39,109]

Alcoa, Inc. St. Lawrence Plant Massena, NY; Dismissal of Application for Reconsideration

Pursuant to 29 CFR 90.18(C) an application for administrative reconsideration was filed with the Director of the Division of Trade Adjustment Assistance for workers at Alcoa, Inc., St. Lawrence Plant, Massena, New York. The application contained no new substantial information which would bear importantly on the Department's determination. Therefore, dismissal of the application was issued.

TA-W-39,109; Alcoa, Inc., St. Lawrence Plant, Massena, New York (February 27, 2002)

Dated: Signed at Washington, DC this 1st day of March, 2002.
Edward A. Tomchick,
Director, Division of Trade Adjustment Assistance.

[FR Doc. 02-5579 Filed 3-7-02; 8:45 am]

BILLING CODE 4510-30-M